DEPARTMENT OF HOMELAND SECURITY

Federal Emergency Management Agency

[Docket ID: FEMA-2022-0056; OMB No. 1660-0017]

Agency Information Collection Activities: Submission for OMB Review, Comment Request; Public Assistance Program

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission seeks comments concerning information collected for the Public Assistance (PA) program eligibility determinations, grants management, and compliance with Federal laws and regulations.

DATES: Comments must be submitted on or before April 3, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address: FEMA-Information-Collections-Management@fema.dhs.gov or Rachel Hildebrand, Acting Chief, Public Assistance Program Delivery Branch, at (202) 714-9731 or Rachel.Hildebrand@fema.dhs.gov.

SUPPLEMENTARY INFORMATION: The Robert T. Stafford Disaster Relief and Emergency Assistance Act, 42 U.S.C. 5121-5207 (Stafford Act), authorizes grants to assist State, local, and Tribal governments and certain private non-profit entities with the response to and recovery from disasters, following Presidentially-declared major disasters and emergencies. 44 CFR part 206 specifies the information collections necessary to facilitate the provision of assistance under the Public Assistance (PA) Program. 44 CFR 206.202 describes the general application procedures for the PA Program.

This proposed information collection previously published in the Federal Register on December 14, 2022, at 87 FR 76499 with a 60-day public comment period. FEMA received twelve public comments and two instrument requests. Four comments (FEMA-2022-0056-0003, -0004, -0007, and -0010) were not germane to the collection. Six comments (FEMA-2022-0056-0002, -0005, -0008, -0009, -0011 and -0012) suggest several edits/ask questions about the instruments in the collection. FEMA-2022-0056-0006 wanted assistance in understanding the new concept of the revised information collection flowchart. FEMA-2022-0056-0013 is inquiring about how the new instruments will be integrated or potentially replace the current functions in the Grants Portal. The purpose of this notice is to notify the public that FEMA will submit the information collection abstracted below to the Office of Management and Budget for review and clearance.

Collection of Information

Title: Public Assistance Program.

Type of Information Collection: Extension, with change, of a currently approved information collection.

OMB Number: 1660-0017.

FEMA Forms: FEMA Form FF-104-FY-21-131 (formerly 009-0-49), Request for Public Assistance; FEMA Form FF-104-FY-21-132 (formerly 009-0-111), Quarterly Progress Reports; FEMA Form FF-104-FY-21-137 (formerly 009-0-123), Force Account Labor Summary Record; FEMA Form FF-104-FY-21-138 (formerly 009-0-124), Materials Summary Record; FEMA Form FF-104-FY-21-139 (formerly 009-0-125), Rented Equipment Summary; FEMA Form FF-104-FY-21-140 (formerly 009-0-126), Contract Work Summary; FEMA Form FF-104-FY-21-141 (formerly 009-0-127), Project Application for COVID-19; FEMA Form FF-104-FY-21-135 (formerly 009-0-128), Applicant's Benefits Calculation Worksheet; FEMA Form FF-104-FY-21-145 (formerly FF 009-0-141), FAC-TRAX System; FEMA Template FT-104-FY-21-100, Equitable COVID-19 Response and Recovery: Vaccine Administration Information; FEMA Form FF-104-FY-22-233, Organization Profile; FEMA Form FF-104-FY-22-234, Recipient Incident Information; FEMA Form FF-104-FY-22-235, Applicant Impact Survey; FEMA Form FF-104-FY-22-238, Pre-Approval Request; FEMA Form FF-104-FY-22-236, Impact List; FEMA Form FF-104-FY-22-239, Project Application for Debris Removal; FEMA Form FF-104-FY-22-240, Project Application for Emergency Protective Measures; FEMA Form FF-104-FY-22-242, Project Application for Infrastructure Restoration; FEMA Form FF-104-FY-22-243, Project Application for Building Code and Floodplain Administration and Enforcement; FEMA Form FF-104-FY-22-244, Project Application for Management Costs; FEMA Form FF-104-FY-22-245, Damage Information; FEMA Form FF-104-FY-22-246, Environmental and Historic Preservation Addendum; FEMA Form FF-104-FY-22-247, Hazard Mitigation Addendum; FEMA Form FF-104-FY-22-241, Project Application for COVID-19; FEMA Form FF-104-FY-22-237, Donated Labor Sign-in; FEMA Form FF-104-FY-21-250, Tribal Administrative Plan; FEMA Form FF-104-FY-22-248, Time Extension; and FEMA Form FF-104-FY-22-249, State Administrative.

Abstract: The information collected is required for the Public Assistance (PA) Program eligibility determinations, grants management, and compliance with other Federal laws and regulations. The Robert T. Stafford Disaster Relief and Emergency Assistance Act, 42 U.S.C. 5121-5207 (the Stafford Act), authorizes grants to assist State, Tribal, and local governments and certain private non-profit entities with the response to and recovery from disasters following Presidentially declared major disasters and emergencies.

Affected Public: State, local or Tribal Government; Private Non-Profit entities.

Estimated Number of Respondents: 1,505.

Estimated Number of Responses: 635,269.

Estimated Total Annual Burden Hours: 341,635.

Estimated Total Annual Respondent Cost: $19,801,167.

Estimated Respondents' Operation and Maintenance Costs: $0.

Estimated Respondents' Capital and Start-Up Costs: $0.

Estimated Total Annual Cost to the Federal Government: $2,001,955.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-04432 Filed 3-2-23; 8:45 am]

BILLING CODE 9111-24-P